DEPARTMENT OF TRANSPORTATION

Coast Guard

33 CFR Part 160

[USCG-2001-10689]

RIN 2115-AG24

Temporary Requirements for Notification of Arrival in U.S. Ports

AGENCY: Coast Guard, DOT.

ACTION: Temporary final rule; request for comments; correction.

SUMMARY: This document corrects the temporary final rule with request for comments published in the Federal Register on October 4, 2001. That rule temporarily changed notification requirements for vessels bound for or departing from U.S. ports. The rule temporarily lengthened the usual notification period from 24 to 96 hours prior to port entry, required submission of reports to a central national clearinghouse, suspended exemptions for vessels operating in compliance with the Automated Mutual Assistance Vessel Rescue System, for some vessels operating on the Great Lakes, and required submission of information about persons onboard these vessels.

DATES: The temporary final rule published in the Federal Register (66 FR 50565) was effective on October 4, 2001 to June 15, 2002. These corrections to that rule are effective on January 18, 2002.

FOR FURTHER INFORMATION CONTACT: If you have questions on this temporary rule, call LTJG Marcus A. Lines, Coast Guard, at telephone 202-267-6854. If you have questions on viewing or submitting material to the docket, call Dorothy Beard, Chief, Dockets, Department of Transportation, at telephone 202-366-5149.

SUPPLEMENTARY INFORMATION

Need for Correction

As published, the temporary final rule contains an error that inadvertently delays an existing effective date of a reporting requirement for certain vessels to include International Safety Management (ISM) Code (Chapter IX of SOLAS) Notice information in the notice of arrival report.

Correction

In the temporary final rule FR Doc. 01-24984, beginning on page 50565 in the issue of October 4, 2001, make the following corrections:

§ 160.T208 [Amended]

1. In § 160.T208 in paragraph (f)(2) on page 50573, in the first column, remove the date “July 1, 2002,” and add in its place the date “January 1, 2002,”.

Dated: January 11, 2002.
Joseph J. Angelo,
Director of Standards, Marine Safety and Environmental Protection.

[FR Doc. 02-1370 Filed 1-17-02; 8:45 am]

BILLING CODE 4910-15-U